DEPARTMENT OF THE INTERIOR

Fish and Wildlife Service

50 CFR Part 17

[Docket No. FWS-R4-ES-2021-0053; FF09E21000 FXES1111090FEDR 223]

RIN 1018-BF38

Endangered and Threatened Wildlife and Plants; Designation of Critical Habitat for the Miami Tiger Beetle

AGENCY: Fish and Wildlife Service, Interior.

ACTION: Proposed rule; extension of comment period, and announcement of public hearing.

SUMMARY: We, the U.S. Fish and Wildlife Service (Service), are extending the public comment period on our September 7, 2021, proposed rule to designate critical habitat for the Miami tiger beetle (Cicindelidia floridana) under the Endangered Species Act of 1973 (Act), as amended. We are taking this action to conduct a public hearing and to allow all interested parties additional time to comment. Comments previously submitted need not be resubmitted and will be fully considered in preparation of the final rule.

DATES: Comment submission: The comment period for the proposed rule published on September 7, 2021 (86 FR 49945), is extended. We will accept comments received or postmarked on or before December 23, 2021. Please note that comments submitted electronically using the Federal eRulemaking Portal (see ADDRESSES, below) must be received by 11:59 p.m. Eastern Time on the closing date, and comments submitted by U.S. mail must be postmarked by that date to ensure consideration.

Public hearing: On December 2, 2021, we will hold a public hearing from 6 to 7:30 p.m., Eastern Time, using the Zoom platform (for more information, see Public Hearing, below).

ADDRESSES: Availability of documents: You may obtain copies of the September 7, 2021, proposed rule and associated documents on the internet at https://www.regulations.gov under Docket No. FWS-R4-ES-2021-0053.

Comment submission: You may submit written comments by one of the following methods:

(1) Electronically: Go to the Federal eRulemaking Portal: https://www.regulations.gov. In the Search box, enter the RIN or docket number, which are displayed in the initial headings of this document. For best results, do not copy and paste the RIN or docket number; instead, type the RIN or docket number into the Search box using hyphens. Then, click on the Search button. On the resulting page, in the Search panel on the left side of the screen, under the Document Type heading, click on the Proposed Rule box to locate this document. You may submit a comment by clicking on “Comment.” Please ensure you have located the correct document before submitting your comments.

(2) By hard copy: Submit by U.S. mail to: Public Comments Processing, Attn: FWS-R4-ES-2021-0053, U.S. Fish and Wildlife Service, MS: PRB/3W, 5275 Leesburg Pike, Falls Church, VA 22041-3803.

We request that you send comments only by the methods described above. We will post all comments on https://www.regulations.gov. This generally means that we will post any personal information you provide us (see Public Comments, below, for more information).

FOR FURTHER INFORMATION CONTACT: Lourdes Mena, Division Manager, Florida Classification and Recovery, U.S. Fish and Wildlife Service, Florida Ecological Services Field Office, 7915 Baymeadows Way, Suite 200, Jacksonville, FL 32256-7517; telephone 904-731-3134. Persons who use a telecommunications device for the deaf (TDD) may call the Federal Relay Service at 800-877-8339.

SUPPLEMENTARY INFORMATION:

Background

On September 7, 2021, we published a proposed rule (86 FR 49945) to designate critical habitat for the Miami tiger beetle under the Act. The proposed rule established a 60-day public comment period, ending November 8, 2021. During the comment period, we received a request for a public hearing. Therefore, we are announcing a public hearing and a 45-day extension of the September 7, 2021, proposed rule's comment period (see DATES, above) to allow the public an additional opportunity to provide comments on the proposed rule.

For a description of previous Federal actions concerning the Miami tiger beetle and information on the types of comments that would be helpful to us in promulgating this rulemaking action, please refer to the September 7, 2021, proposed rule (86 FR 49945).

Public Hearing

We are holding a public hearing to accept comments on the proposed rule on the date and at the time listed in DATES. We are holding the public hearing via the Zoom online video platform and via teleconference so that participants can attend remotely. For security purposes, registration is required. All participants must register in order to listen and view the hearing via Zoom, listen to the hearing by telephone, or provide oral public comments at the hearing by Zoom or telephone. For information on how to register, or if technical problems occur joining Zoom on the day of the hearing, visit https://www.fws.gov/southeast/florida. Registrants will receive the Zoom link and the telephone number for the public hearing. If applicable, interested members of the public not familiar with the Zoom platform should view the Zoom video tutorials (https://support.zoom.us/hc/en-us/articles/206618765-Zoom-video-tutorials) prior to the public hearing.

The public hearing will provide interested parties an opportunity to present verbal testimony (formal, oral comments) regarding the September 7, 2021, proposed rule to designate critical habitat for the Miami tiger beetle (86 FR 49945). The public hearing will not be an opportunity for dialogue with the Service, but rather a forum for accepting formal verbal testimony. In the event there is a large attendance, the time allotted for oral statements may be limited. Therefore, anyone wishing to make an oral statement at the public hearing for the record is encouraged to provide a prepared written copy of their statement to us through the Federal eRulemaking Portal, or U.S. mail (see ADDRESSES, above). There are no limits on the length of written comments submitted to us. Anyone wishing to make an oral statement at the public hearing must register before the hearing (https://www.fws.gov/southeast/florida). The use of a virtual public hearing is consistent with our regulations at 50 CFR 424.16(c)(3).

Reasonable Accommodation

The Service is committed to providing access to the public hearing for all participants. Closed captioning will be available during the public hearing. Participants will also have access to live audio during the public hearing via their telephone or computer speakers. Persons with disabilities requiring reasonable accommodations to participate in the hearing should contact the person listed under FOR FURTHER INFORMATION CONTACT at least 5 business days prior to the date of the hearing to help ensure availability. An accessible version of the Service's presentation will also be posted online at https://www.fws.gov/southeast/florida prior to the hearing (see DATES, above). See https://www.fws.gov/southeast/florida for more information about reasonable accommodation.

Public Comments

If you submit information via https://www.regulations.gov, your entire submission—including any personal identifying information—will be posted on the website. If your submission is made via hard copy that includes personal identifying information, you may request at the top of your document that we withhold this information from public review. However, we cannot guarantee that we will be able to do so. We will post all hardcopy submissions on https://www.regulations.gov. Comments and materials we receive, as well as supporting documentation we used in preparing the proposed rule, will be available for public inspection on https://www.regulations.gov.

Authors

The primary authors of this document are staff members of the Florida Ecological Services Field Office and Interior Regions 2/4 Regional Office.

Authority

The authority for this action is the Endangered Species Act of 1973, as amended (16 U.S.C. 1531 et seq.).

Martha Williams,
Principal Deputy Director, Exercising the Delegated Authority of the Director, U.S. Fish and Wildlife Service.

[FR Doc. 2021-24357 Filed 11-5-21; 8:45 am]

BILLING CODE 4333-15-P